DEPARTMENT OF COMMERCE

National Oceanic and Atmospheric Administration

[I.D. 032406A]

General Advisory Committee to the U.S. Section to the Inter-American Tropical Tuna Commission (IATTC); Meeting Announcement

AGENCY: National Marine Fisheries Service (NMFS), National Oceanic and Atmospheric Administration (NOAA), Commerce.

ACTION: Notice of public meeting.

SUMMARY: NMFS announces a meeting of the General Advisory Committee to the U.S. Section to the IATTC on April 27, 2006, via telephone conference call. The April 27, 2006, teleconference reschedules the April 11, 2006 teleconference.

DATES: The General Advisory Committee meeting will be held on April 27, 2006, from 12 noon to 3 p.m., Pacific Time.

ADDRESSES: The meeting will be held via telephone conference call at (866) 857-1547, participant passcode, 3313634.

FOR FURTHER INFORMATION CONTACT: J.Allison Routt at (562) 980-4019 or (562) 980-4030.

SUPPLEMENTARY INFORMATION: The initial notification of this meeting was published in the Federal Register on March 29, 2006, (71 FR 15698). In the original notice, it stated that the meeting date was April 11, 2006. The meeting has been rescheduled to be held on April 27, 2006. All other information previously published remains the same.

In accordance with the Tuna Conventions Act, as amended, the Department of State has appointed a General Advisory Committee to the U.S. Section to the IATTC. The U.S. Section consists of the four U.S. Commissioners to the IATTC and the representative of the Deputy Assistant Secretary of State for Oceans and Fisheries. The Advisory Committee supports the work of the U.S. Section in a solely advisory capacity with respect to U.S. participation in the work of the IATTC, with particular reference to the development of policies and negotiating positions pursued at meetings of the IATTC. NMFS, Southwest Region, administers the Advisory Committee in cooperation and consultation with the Department of State.

The General Advisory Committee to the U.S. Section to the IATTC will meet by telephone conference to receive and discuss information on: (1) 2006 IATTC activities; (2) recent and upcoming meetings of the IATTC and its working groups; (3) IATTC cooperation with other regional fishery management organizations; and (4) Advisory Committee operational issues.

Special Accommodations

The meeting is accessible to people with disabilities. Requests for a telephone teletype device, language interpretation or other auxiliary aids should be directed to Allison Routt at (562) 980-4019 at least 10 days prior to the meeting date for this conference call.

Dated: April 4, 2006.
Tracey L. Thompson,
Acting Director, Office of Sustainable Fisheries, National Marine Fisheries Service.

[FR Doc. E6-5154 Filed 4-7-06; 8:45 am]

BILLING CODE 3510-22-S